DEPARTMENT OF HEALTH AND HUMAN SERVICES

Centers for Disease Control and Prevention

[Docket Number CDC-2013-0022, NIOSH 153-B]

Issuance of Final Publications

AGENCY: National Institute for Occupational Safety and Health (NIOSH) of the Centers for Disease Control and Prevention (CDC), Department of Health and Human Services (HHS).

ACTION: Notice of issuance of 10 Final Skin Notation Profile publications

SUMMARY: The National Institute for Occupational Safety and Health (NIOSH) of the Centers for Disease Control and Prevention (CDC) announces the availability of the following 10 Skin Notation Profiles:

Substance(s)

Allyl glycidyl ether: http://www.cdc.gov/niosh/docs/2014-143/pdfs/2014-143.pdf.

2-Diethylaminoethanol: http://www.cdc.gov/niosh/docs/2014-140/pdfs/2014-140.pdf.

2-Ethoxyethyl acetate: http://www.cdc.gov/niosh/docs/2014-141/pdfs/2014-141.pdf.

Ethyl acrylate: http://www.cdc.gov/niosh/docs/2014-144/pdfs/2014-144.pdf.

Isophorone diisocyanate: http://www.cdc.gov/niosh/docs/2014-144/pdfs/2014-144.pdf.

2-Mercaptobenzothiazole (MBT); Sodium 2-MBT; Zinc 2-MBT: http://www.cdc.gov/niosh/docs/2014-142/pdfs/2014-142.pdf.

Methyl isocyanate: http://www.cdc.gov/niosh/docs/2014-145/pdfs/2014-145.pdf.

Nitrobenzene: http://www.cdc.gov/niosh/docs/2014-146/pdfs/2014-146.pdf.

Phenylhydrazine: http://www.cdc.gov/niosh/docs/2014-147/pdfs/2014-147.pdf.

Propargyl alcohol: http://www.cdc.gov/niosh/docs/2014-149/pdfs/2014-149.pdf.

ADDRESSES: These documents are available at the following Web site: http://www.cdc.gov/niosh/topics/skin/skin-notation_profiles.html

FOR FURTHER INFORMATION CONTACT: Naomi Hudson, Dr.P.H.: NIOSH, 1090 Tusculum Ave., MS-C32, Cincinnati, OH 45226, Telephone: (513) 533-8540, email: iuz8@cdc.gov.

Dated: September 22, 2014.
John Howard,
Director, National Institute for Occupational Safety and Health, Centers for Disease Control and Prevention.

[FR Doc. 2014-23086 Filed 9-26-14; 8:45 am]

BILLING CODE 4163-19-P